DEPARTMENT OF COMMERCE

National Oceanic and Atmospheric Administration

RIN 0648-XD724

Fishing Capacity Reduction Program for the Pacific Coast Groundfish Fishery

AGENCY: National Marine Fisheries Service (NMFS), National Oceanic and Atmospheric Administration (NOAA), Commerce.

ACTION: Notice of loan repayment.

SUMMARY: NMFS issues this notice to inform interested parties that the Oregon coastal Dungeness crab sub-loan in the fishing capacity reduction program for the Pacific Coast Groundfish Fishery has been repaid. Therefore, buyback fee collections on Oregon coastal Dungeness crab will cease for all landings after December 31, 2014.

DATES: Comments must be submitted on or before 5 p.m. EST February 13, 2015.

ADDRESSES: Send comments about this notice to Paul Marx, Chief, Financial Services Division, NMFS, Attn: Oregon Coastal Dungeness Crab Buyback, 1315 East-West Highway, Silver Spring, MD 20910 (see FOR FURTHER INFORMATION CONTACT).

FOR FURTHER INFORMATION CONTACT: Michael A. Sturtevant at (301) 427-8799 or Michael.A.Sturtevant@noaa.gov.

SUPPLEMENTARY INFORMATION: On November 16, 2004, NMFS published a Federal Register document (69 FR 67100) proposing regulations to implement an industry fee system for repaying the reduction loan. The final rule was published July 13, 2005 (70 FR 40225) and fee collection began on September 8, 2005. Interested persons should review these for further program details.

The Oregon coastal Dungeness crab sub-loan of the Pacific Coast Groundfish Capacity Reduction (Buyback) loan in the amount of $1,367,545.28 will be repaid in full upon receipt of buyback fees on landings through December 31, 2014. NMFS has received $2,117,701.75 to repay the principal and interest on this sub-loan since fee collection began September 8, 2005. Based on buyback fees received to date, landings after December 31, 2014 will not be subject to the buyback fee. Therefore, buyback loan fees will no longer be collected in the Oregon coastal Dungeness crab fishery on future landings.

Buyback fees not yet forwarded to NMFS for Oregon coastal Dungeness crab landings through December 31, 2014 should be forwarded to NMFS immediately. Any overpayment of buyback fees submitted to NMFS will be refunded on a pro-rata basis to the fish buyers/processors based upon best available fish ticket landings data. The fish buyers/processors should return excess buyback fees collected to the harvesters, including buyback fees collected but not yet remitted to NMFS for landings after December 31, 2014. Any discrepancies in fees owed and fees paid must be resolved immediately. After the sub-loan is closed, no further adjustments to fees paid and fees received can be made.

Dated: January 23, 2015.
Basil Brown,
Acting Director, Office of Management and Budget, National Marine Fisheries Service.

[FR Doc. 2015-01724 Filed 1-28-15; 8:45 am]

BILLING CODE 3510-22-P